POSTAL REGULATORY COMMISSION

[Docket No. A2010-3; Order No. 417]

Post Office Closing

AGENCY: Postal Regulatory Commission.

ACTION: Notice.

SUMMARY: This document informs the public that an appeal of the closing of the East Elko Station, NV post office has been filed. It identifies preliminary steps and provides a procedural schedule. Publication of this document will allow the Postal Service, petitioner, and others to take appropriate action.

ADDRESSES: Submit comments electronically via the Commission's Filing Online system at http://www.prc.gov. Commenters who cannot submit their views electronically should contact the person identified in the For Further Information Contact section by telephone for advice on alternatives to electronic filing.

FOR FURTHER INFORMATION CONTACT: Stephen L. Sharfman, General Counsel, 202-789-6820 or stephen.sharfman@prc.gov.

SUPPLEMENTARY INFORMATION: Notice is hereby given that pursuant to 39 U.S.C. 404(d), the Commission has received an appeal of the closing of the East Elko Station located in Elko, Nevada 89801. The appeal was received by the Commission on February 22, 2010. The Commission hereby institutes a proceeding under 39 U.S.C. 404(d)(5) and designates the case as Docket No. A2010-3 to consider the petitioner's appeal. If the petitioner would like to further explain his position with supplemental information or facts, he may either file a Participant Statement on PRC Form 61 or file his own brief with the Commission by no later than March 29, 2010.

Categories of issues apparently raised. The categories of issues that appear to be raised include:

Effect on the community (39 U.S.C. 404(d)(2)(A)(i)).

After the Postal Service files the administrative record and the Commission reviews it, the Commission may find that there are additional issues other than that set forth above or, alternatively, the Commission may find that the Postal Service's determination disposes of one or more of those issues. The deadline for the Postal Service to file the administrative record with the Commission is March 9, 2010. 39 CFR 3001.113.

Availability; Web site posting. The Commission has posted the appeal and supporting material on its Web site at http://www.prc.gov. Additional filings in this case and participants' submissions also will be posted on the Web site, if provided in electronic format or amenable to conversion, and not subject to a valid protective order. Information on how to use the Commission's Web site is available online or by contacting the Commission's webmaster via telephone at 202-789-6873 or via electronic mail at prc-webmaster@prc.gov.

The appeal and all related documents are also available for public inspection in the Commission's docket section. Docket section hours are 8 a.m. to 4:30 p.m., Monday through Friday, except on Federal government holidays. Docket section personnel may be contacted via electronic mail at prc-dockets@prc.gov or via telephone at 202-789-6846.

Filing of documents. All filings of documents in this case shall be made using the Internet (Filing Online) pursuant to Commission rules 9(a) and 10(a) at the Commission's Web site, http://www.prc.gov, unless a waiver is obtained. 39 CFR 3001.9(a) and 10(a). Instructions for obtaining an account to file documents online may be found on the Commission's Web site, http://www.prc.gov, or by contacting the Commission's docket section at prc-dockets@prc.gov or via telephone at 202-789-6846.

Intervention. Those, other than the petitioner and respondent, wishing to be heard in this matter are directed to file a notice of intervention. See 39 CFR 3001.111(b). Notices of intervention are due on or before March 29, 2010. A notice of intervention shall be filed using the Internet (Filing Online) at the Commission's Web site, http://www.prc.gov, unless a waiver is obtained for hardcopy filing. See 39 CFR 3001.9(a) and 10(a).

Further procedures. By statute, the Commission is required to issue its decision within 120 days from the date this appeal was filed. See 39 U.S.C. 404(d)(5). A procedural schedule has been developed to accommodate this statutory deadline. In the interest of expedition, in light of the 120-day decision schedule, the Commission may request the Postal Service or other participants to submit information or memoranda of law on any appropriate issue. As required by the Commission rules, if any motions are filed, responses are due 7 days after any such motion is filed. 39 CFR 3001.21.

Comments. In considering this appeal, the Commission will be relying on its interpretation of 39 U.S.C. section 404(d)(1) which accords customers of stations and branches the same treatment as customers of post offices for purposes of appeal.

The Commission's position of record on this issue has been developed since the late 1970s, when the former Rate Commission first addressed the definition of post office in Docket No. A78-1. In re Gresham, SC, Order No. 208 (August 16, 1978). Since that time, the Commission has consistently put forward the position that stations and branches were “post offices” within the meaning of section 404(d).

Comments from the mailing community and general public in this docket are encouraged.

In addition, it would be helpful for commenters to review whether precedent based on these cases, decided by the former Rate Commission, should be controlling in the new regulatory environment established by the Postal Accountability and Enhancement Act.

It is ordered:

1. The Postal Service shall file the administrative record in this appeal, or otherwise file a responsive pleading to the appeal, by March 9, 2010.

2. The procedural schedule listed below is hereby adopted.

3. Pursuant to 39 U.S.C. 505, Richard A. Oliver is designated officer of the Commission (Public Representative) to represent the interests of the general public.

4. The Secretary shall arrange for publication of this notice and order and procedural schedule in the Federal Register.

By the Commission.
Shoshana M. Grove,
Secretary.

Procedural Schedule
February 22, 2009 | Filing of Appeal.
March 9, 2010 | Deadline for Postal Service to file administrative record in this appeal or responsive pleading.
March 29, 2010 | Deadline for petitions to intervene (see 39 CFR 3001.111(b)).
March 29, 2010 | Deadline for petitioner's form 61 or initial brief in support of petition (see 39 CFR 3001.115(a) and (b)).
April 19, 2010 | Deadline for answering brief in support of Postal Service (see 39 CFR 3001.115(c)).
May 4, 2010 | Deadline for reply briefs in response to answering briefs (see 39 CFR 3001.115(d)).
May 11, 2010 | Deadline for motions by any party requesting oral argument; the Commission will schedule oral argument only when it is a necessary addition to the written filings (see 39 CFR 3001.116).
June 22, 2010 | Expiration of the Commission's 120-day decisional schedule (see 39 U.S.C. 404(d)(5)).

[FR Doc. 2010-4921 Filed 3-8-10; 8:45 am]

BILLING CODE 7710-FW-S